DEPARTMENT OF AGRICULTURE

Submission for OMB Review; Comment Request

September 15, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by October 20, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Importation of Tomatoes from Spain, Chile, France, Morocco, and Western Sahara.

OMB Control Number: 0579-0131.

Summary of Collection: Under the Plant Protection Act (PPA) (7 U.S.C. 7701—et.seq), the Secretary of Agriculture is authorized to carry out operations or measure to detect, eradicate, suppress, control, prevent, or retard the spread of plant pests new to the United States or not known to be widely distributed throughout the United States. Regulations authorized by the PPA concerning the importation of fruits and vegetables into the United States from certain parts of the word are contained in “Subpart—Fruits and Vegetables” (7 CFR 319.56-28, referred to as the regulations). These regulations allow tomatoes from Spain, Chile, France, Morocco, and Western Sahara to be imported into the United States (subject to certain conditions). This action is necessary in order to protect the ripening, or ripe tomatoes from infestation by the Mediterranean fruit fly (Medfly).

Need and Use of the Information: The Animal and Plant Health Inspection Service (APHIS) will collect information using the phytosanitary certificate certifying that the tomatoes were grown in registered greenhouses in a specified area of the exporting country. APHIS will also use marking of boxes to identify the packing facility, treatment facility registration, trust fund agreement, production site registration, and quality control program. APHIS uses the collected information to determine the pest condition of the shipment at the time of inspection in the foreign country. Without this information, all shipments would need to be inspected very thoroughly, thereby requiring considerably more time. This would slow the clearance of international shipments.

Description of Respondents: Business or other for profit; Federal Government.

Number of Respondents: 10.

Frequency of Responses: Recordkeeping; Reporting: On occasion.

Total Burden Hours: 1,350.

Ruth Brown,
Departmental Information Collection Clearance Officer.

[FR Doc. 2014-22303 Filed 9-18-14; 8:45 am]

BILLING CODE 3410-34-P